DEPARTMENT OF COMMERCE

National Oceanic and Atmospheric Administration

RIN 0648-XA626

Marine Mammals; File No. 16163

AGENCY: National Marine Fisheries Service (NMFS), National Oceanic and Atmospheric Administration (NOAA), Commerce.

ACTION: Notice; issuance of permit amendment.

SUMMARY: Notice is hereby given that a major amendment to Permit No. 16163 has been issued to the Northwest Fisheries Science Center (Dr. M. Bradley Hanson, Principal Investigator), 2725 Montlake Blvd. East, Seattle, Washington 98112-2097.

ADDRESSES: The permit amendment and related documents are available for review upon written request or by appointment in the following offices:

Permits and Conservation Division, Office of Protected Resources, NMFS, 1315 East-West Highway, Room 13705, Silver Spring, MD 20910; phone (301) 427-8401; fax (301) 713-0376; and

Northwest Region, NMFS, 7600 Sand Point Way NE., BIN C15700, Bldg. 1, Seattle, WA 98115-0700; phone (206) 526-6150; fax (206) 526-6426.

FOR FURTHER INFORMATION CONTACT: Joselyd Garcia-Reyes or Jennifer Skidmore, (301)427-8401.

SUPPLEMENTARY INFORMATION: On June 25, 2012, notice was published in the Federal Register (77 FR 37878) that a request for an amendment to Permit No. 16163 to conduct research on cetacean species in U.S. and international waters in the Pacific Ocean, including waters of Alaska, Washington, Oregon, California, and Hawaii had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit amendment authorizes an increase in takes associated with Level B harassment from 25 each per year to 2500 for short-beaked common (Delphinus delphis) and long-beaked common (D. capensis) dolphins. The amended permit is valid through the expiration date of the original permit, June 6, 2017.

A supplemental environmental assessment (SEA) analyzing the effects of the permitted activities on the human environment was prepared in compliance with the National Environmental Policy Act of 1969 (42 U.S.C. 4321 et seq.). Based on the analyses in the SEA, NMFS determined that issuance of the permit amendment would not significantly impact the quality of the human environment and that preparation of an environmental impact statement was not required. That determination is documented in a Finding of No Significant Impact (FONSI), signed on September 17, 2012.

Dated: September 20, 2012.
P. Michael Payne,
Chief, Permits and Conservation Division, Office of Protected Resources, National Marine Fisheries Service.

[FR Doc. 2012-23964 Filed 9-27-12; 8:45 am]

BILLING CODE 3510-22-P